DEPARTMENT OF HEALTH AND HUMAN

National Institutes of Health

National Cancer Institute; Amended Notice of Meeting

Notice is hereby given of a change in the meeting of the National Cancer Advisory Board, June 14, 2007, 2 p.m. to June 15, 2007, 12 p.m., National Institutes of Health, Building 31, 31 Center Drive, Bethesda, MD 20892, which was published in the Federal Register on May 2, 2007, 72 FR 24319.

The notice is being amended to change the open session start and end times on June 14, 2007 to 1:15 p.m.—4:20 p.m. and the end time on June 15, 2007 to 11:45 a.m. The meeting is partially Closed to the public.

Dated: May 14, 2007.
Jennifer Spaeth,
Director, Office of Federal Advisory Committee Policy.

[FR Doc. 07-2495 Filed 5-18-07; 8:45 am]

BILLING CODE 4140-01-M